NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by January 11, 2024. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

1. Applicant Permit Application: 2024-018

Sarah Kienle, Baylor University, Baylor Science Building, One Bear Place #97388, Waco, TX 76798

Activity for Which Permit Is Requested

Take, Import into USA, Export from USA. The applicant seeks an ACA permit for research on the adaptive capacity of pinnipeds in Antarctica. The applicant proposes to collect tissue samples from leopard, crabeater, Weddell, Ross, and southern elephant seals using a biopsy dart gun. The applicant proposes to also opportunistically collect tissue samples found near animals. The applicant proposes to handle up to 30 pups and 30 adults each year. Adult seals would be chemically immobilized and physiological samples taken. Adult seals would also be marked and have biologging instruments attached. Additionally, the applicant proposes to use Remotely Piloted Aircraft Systems (RPAS) to conduct photographic surveys of seals.

Location

Antarctic Peninsula Region.

Dates of Permitted Activities

January 20, 2024-June 20, 2026.

Kimiko S. Bowens-Knox,
Program Analyst, Office of Polar Programs.

[FR Doc. 2023-27211 Filed 12-11-23; 8:45 am]

BILLING CODE 7555-01-P